CONSUMER PRODUCT SAFETY COMMISSION

[Docket No. CPSC-2012-0038]

Proposed Extension of Approval of Information Collection; Comment Request—Baby Bouncers and Walker-Jumpers

AGENCY: Consumer Product Safety Commission.

ACTION: Notice; correction.

SUMMARY: As required by the Paperwork Reduction Act of 1995, the Consumer Product Safety Commission (CPSC) requested comments on a proposed extension of approval, for a period of 3 years from the date of approval by the Office of Management and Budget (OMB), of information collection requirements for manufacturers and importers of children's articles known as baby-bouncers and walker-jumpers. This document was published in the Federal Register of September 5, 2012, and contains an incorrect docket number and omits the date by which comments must be submitted.

FOR FURTHER INFORMATION CONTACT: Mary James, Office of Information Technology and Technology Services, Consumer Product Safety Commission, 4330 East West Highway, Bethesda, MD 20814; telephone: (301) 504-7213 or by email to: mjames@cpsc.gov.

Correction

In the Federal Register of September 5, 2012, in FR Doc. 2012-21730, beginning on page 54568 in the third column, and continuing on page 54569 in the first column, correct the second and third sentences of the ADDRESSES section to read:

To ensure that comments on the information collection are received, the OMB recommends that written comments be submitted by October 5, 2012, by fax to the Office of Information and Regulatory Affairs, OMB, Attn: CPSC Desk Officer, FAX: 202-395-6974, or emailed to oira_submission@omb.eop.gov. All comments should be identified by Docket No. CPSC-2012-0038. In addition, written comments also should be submitted at http://www.regulations.gov, under Docket No. CPSC-2012-0038, or by mail/hand delivery/courier (for paper, disk, or CD-ROM submissions), preferably in five copies, to: Office of the Secretary, U.S. Consumer Product Safety Commission, Room 820, 4330 East West Highway, Bethesda, MD 20814; telephone (301) 504-7923.

Dated: September 6, 2012.
Todd A. Stevenson,
Secretary, Consumer Product Safety Commission.

[FR Doc. 2012-22312 Filed 9-10-12; 8:45 am]

BILLING CODE 6355-01-P